DEPARTMENT OF COMMERCE

National Oceanic and Atmospheric Administration

Meetings: Science Advisory Board

AGENCY: Office of Oceanic and Atmospheric Research (OAR), National Oceanic and Atmospheric Administration (NOAA), Department of Commerce (DOC).

ACTION: Notice of Open Meeting.

SUMMARY: The Science Advisory Board (SAB) was established by a Decision Memorandum dated September 25, 1997, and is the only Federal Advisory Committee with responsibility to advise the Under Secretary of Commerce for Oceans and Atmosphere on strategies for research, education, and application of science to operations and information services. SAB activities and advice provide necessary input to ensure that National Oceanic and Atmospheric Administration (NOAA) science programs are of the highest quality and provide optimal support to resource management.

Time and Date: The meeting will be held Tuesday, November 8, 2005, from 8:30 a.m. to 12:45 p.m. and Wednesday, November 9, 2005, from 9 a.m. to 4 p.m. These times and the agenda topics described below are subject to change. Refer to the Web page http://www.sab.noaa.gov/Meetings/meetings.html for the most up-to-date meeting agenda.

Place: The meeting will be held both days at the Beacon Hotel, 1615 Rhode Island Avenue NW., Washington, DC 20036.

Status: The meeting will be open to public participation with a 30-minute public comment period on November 8 from 12:15 p.m. to 12:45 p.m. (check Web site to confirm this time). The SAB expects that public statements presented at its meetings will not be repetitive of previously submitted verbal or written statements. In general, each individual or group making a verbal presentation will be limited to a total time of five (5) minutes. Written comments (at least 35 copies) should be received in the SAB Executive Director's Office by November 1, 2005 to provide sufficient time for SAB review. Written comments received by the SAB Executive Director after November 1 will be distributed to the SAB, but may not be reviewed prior to the meeting date. Seats will be available on a first-come, first-served basis.

Matters To Be Considered: The meeting will include the following topics: (1) Discussion and approval of the Report of the “Evaluation of NOAA's Response to the Research Review Report”; (2) Approval of NOAA Cooperative Institute (CI) Reviews (the CI for Climate and Ocean Research and the CI for Limnology and Ecosystems Research); (3) Briefings on NOAA's role related to Hurricanes Katrina and Rita; (4) Updates from the Reviews of NOAA Ecosystem Science and Research and of NOAA Physical and Social Sciences; (5) Briefing on the reauthorization of the Magnuson Stevens Fishery Conservation and Management Act—Update on provisions in the Administration's proposed bill regarding science and data collection; and (6) Report on the Review of the National Sea Grant College Extension Program and a Call for Greater National Commitment to Engagement.

FOR FURTHER INFORMATION CONTACT: Michael Uhart, Executive Director, Science Advisory Board, NOAA, Rm. 11142, 1315 East-West Highway, Silver Spring, Maryland 20910. (Phone: 301-713-9121, Fax: 301-713-0163, E-mail: Michael.Uhart@noaa.gov); or visit the NOAA SAB Web site at http://www.sab.noaa.gov.

Dated: October 18, 2005.
Mark Brown,
Chief Financial Officer, Office of Oceanic and Atmospheric Research, National Oceanic and Atmospheric Administration, Atmospheric Administration.

[FR Doc. 05-21213 Filed 10-21-05; 8:45 am]

BILLING CODE 3510-KD-P